DEPARTMENT OF THE INTERIOR

Fish and Wildlife Service

50 CFR Part 21

[Docket No. FWS-R9-MB-2012-0098; FF09M21200-134-FXMB1231099BPP0]

RIN 1018-AZ19

Migratory Bird Hunting and Permits; Regulations for Managing Harvest of Light Goose Populations

AGENCY: Fish and Wildlife Service, Interior.

ACTION: Proposed rule.

SUMMARY: We, the U.S. Fish and Wildlife Service (Service), propose to reduce the information collection requirements for participants in the light goose conservation order, which authorizes methods of take to increase harvest of certain populations of light geese in the Atlantic, Central, and Mississippi Flyways, and to reduce the burden on State and tribal wildlife agencies that are required to submit annual light goose harvest reports to the Service. We are taking this action to eliminate information collection and reporting requirements that we believe to be unnecessary. This action would relieve requirements on certain individuals, States, and tribes.

DATES: The comment period for this proposed rule closes April 21, 2014.

Comments on the Information Collection Aspects of this Proposal: Comments on the information collection aspects of this proposed rule will be considered if received by March 20, 2014.

ADDRESSES: Written Comments on this Proposal: You may submit comments only by either one of the following two methods:

• Federal eRulemaking Portal: http://www.regulations.gov. Follow the instructions for submitting comments on Docket FWS-R9-MB-2012-0098.

• U.S. mail or hand delivery: Public Comments Processing, Attention: FWS-R9-MB-2012-0098; Division of Policy and Directives Management; U.S. Fish and Wildlife Service; 4401 North Fairfax Drive, MS 2042-PDM; Arlington, VA 22203-1610. We will post all comments on http://www.regulations.gov. This generally means that we will post any personal information you provide us (see the Public Comments section below for more information).

We will not accept emailed or faxed comments. We will post all comments on http://www.regulations.gov. This generally means that we will post any personal information you provide us (see the Public Comments section below for more information).

Comments on the Information Collection Aspects of this Proposal: Send comments specific to the information collection aspects of this proposed rule to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail) or hope_grey@fws.gov (email). Please include “1018-0103” in the subject line of your comments. You may review the Information Collection Request online at http://www.reginfo.gov. Follow the instructions to review Department of the Interior collections under review by OMB.

Document Availability: You may obtain a copy of the final environmental impact statement (EIS) from our Web site at: http://www.fws.gov/migratorybirds/currentbirdissues/management/snowgse/tblcont.html, or by requesting one from the Division of Migratory Bird Management, U.S. Fish and Wildlife Service, 4401 North Fairfax Drive, MBSP-4107, Arlington, VA 22203-1610.

FOR FURTHER INFORMATION CONTACT: James Kelley at 612-713-5409.

SUPPLEMENTARY INFORMATION: Greater snow geese, lesser snow geese, and Ross's geese are referred to as “light” geese due to the light coloration of the white-phase plumage morph, as opposed to true “dark” geese such as the white-fronted or Canada goose. We include both plumage variations of lesser snow geese (white, or “snow” and dark, or “blue”) under the designation light geese. Dark phase Ross's geese exist but are uncommon.

Various populations of light geese have undergone rapid growth during the past 30 years, and have become seriously injurious to their habitat, habitat important to other migratory birds, and agricultural interests. We believe that several of these populations have exceeded the long-term carrying capacity of their breeding and/or migration habitats and must be reduced. In 1999, we implemented regulations that authorized new methods of take and created a conservation order to increase harvest of certain populations of light geese in the Central and Mississippi Flyways (64 FR 7507; February 16, 1999). In 2008, we prepared an environmental impact statement and record of decision to revise the regulations to include the Atlantic Flyway (73 FR 65926; November 5, 2008). The regulations at § 21.60 of title 50 of the Code of Federal Regulations (CFR) include information collection and reporting requirements, which we discuss below, for the conservation order for light geese.

Past changes to the light goose harvest regulations at 50 CFR 21.60 addressed two areas. The first authorized the use of two new hunting methods, electronic calls and unplugged shotguns, to harvest light geese during normal hunting season frameworks. New methods of take were allowed during a light-goose-only hunting season when all other waterfowl and crane hunting seasons, excluding falconry, are closed. Authorization of new methods of take during light-goose-only seasons was allowed only during normal hunting season framework dates (September 1 to March 10), except as provided in 50 CFR part 21, as described below. Individual States and tribes were authorized to determine the exact dates such tools could be used. Persons utilizing new methods of take during light goose hunting seasons were required to possess a Federal migratory bird hunting stamp, to be registered under the Harvest Information Program, and to be in compliance with any additional State or tribal license and stamp requirements pertaining to hunting waterfowl.

The second area revised subpart E of 50 CFR part 21 for the management of overabundant light goose populations. Under this subpart, we established a conservation order specifically for the control and management of light geese. Under the authority of this regulation, States and tribes could initiate aggressive harvest management strategies with the intent to increase light goose harvest without having to obtain an individual permit, which significantly reduced the administrative burden on State, tribal and Federal governments. This regulation enabled States and tribes, as a management tool, to use hunters to harvest light geese, by shooting in a hunting manner, inside or outside of the regular migratory bird hunting season framework dates of September 1 and March 10. Although a conservation order could be implemented at any time, we believe the greatest value of this regulation is the provision of a mechanism to increase harvest of light geese beyond March 10, the latest possible closing date for traditional migratory bird hunting seasons. This provision is especially effective in increasing harvest in mid-latitude and northern States during spring migration. The conservation order is not a hunting season, and implementation of such a regulation should not be construed as opening, re-opening, or extending any open hunting season contrary to any regulations promulgated under section 3 of the Migratory Bird Treaty Act (16 U.S.C. 703-712).

Conditions under the conservation order require that participating States and tribes inform participants acting under the authority of the conservation order of the conditions that apply to the regulation. In order to minimize or avoid take of nontarget species, States and tribes may implement this action only when all waterfowl (including light goose) and crane hunting seasons, excluding falconry, are closed. In addition to authorizing electronic calls and unplugged shotguns, the conservation order does not impose daily bag limits for light geese and allows shooting hours for light geese to end one-half hour after sunset.

Under the regulations at 50 CFR 21.60, States and tribes must keep annual records of activities carried out under the authority of the conservation order. We required the reported information to help us to assess the effectiveness of light geese population control methods and strategies, and to assess whether or not additional population control methods are needed. We believe that sufficient information has been collected since 2000 to allow us to properly evaluate the effectiveness of new methods of take for harvesting light geese. While we are not proposing to eliminate all of the information collection requirements of the conservation order, we believe that the requirements can be simplified, thus reducing the burden on individuals participating in the conservation order, who must provide information to State wildlife agencies, and on State and Tribal wildlife agencies, which are required to submit annual light goose harvest reports to the Service. Currently, 50 CFR 21.60(f)(8) requires States and tribes to keep annual records of the following activities carried out under the authority of the light goose conservation order:

(i) The number of persons participating in the conservation order;

(ii) The number of days people participated in the conservation order;

(iii) The number of persons who pursued light geese with the aid of a shotgun capable of holding more than three shells;

(iv) The number of persons who pursued light geese with the aid of an electronic call;

(v) The number of persons who pursued light geese during the period one-half hour after sunset;

(vi) The total number of light geese shot and retrieved during the conservation order;

(vii) The number of light geese taken with the aid of an electronic call;

(viii) The number of light geese taken with the fourth, fifth, or sixth shotgun shell;

(ix) The number of light geese taken during the period one-half hour after sunset; and

(x) The number of light geese shot but not retrieved.

During 2000-2011, an average of 52,672 hunters in the Central and Mississippi Flyways (combined) spent 250,079 days afield each year during conservation order periods (Table 1). An average of 3,815 hunters in the Atlantic Flyway spent 13,424 days afield during conservation order periods each year from 2009-2011. The annual average harvest of light geese during the conservation order harvest was 697,367 birds in the Central and Mississippi Flyways (combined), and 39,100 birds in the Atlantic Flyway. Half of all conservation order participants chose to utilize electronic calls (51%) and unplugged shotguns (50%), whereas only 28% chose to pursue light geese during the period one-half hour after sunset.

Table 1—Light Goose Conservation Order Hunter Numbers, Days Spent Afield, Light Goose Harvest, and Harvest by Various Methods of Take
Geographic area | Number of hunters | Days afield | Light goose harvest | Light goose harvest by method of take: Electronic calls (%) | Light goose harvest by method of take: Unplugged shotguns (%) | Light goose harvest by method of take: Shooting ½ hour after sunset (%)
Central and Mississippi flyways combined, 2000 2011 | 52,672 | 250,079 | 697,367 | 275,074 (39.4) | 185,881 (26.7) | 91,558 (13.1)
Atlantic Flyway, 2009 2011 | 3,815 | 13,424 | 39,100 | 15,830 (40.5) | 6,096 (15.6) | 4,558 (11.7)

As shown in Table 1, above, electronic calls were used to take approximately 40% of the light geese during the conservation order in the 3 Flyways. Unplugged shotguns were used to take nearly 27% of the light goose harvest in the Central and Mississippi Flyways (combined), but only about 16% in the Atlantic Flyway. Just under 13% of light geese were harvested in the period one-half hour after sunset, compared to the other methods of take. However, it should be noted that two or more methods of take can be utilized simultaneously while pursuing light geese during the conservation order.

These results indicate that the new methods of take authorized during the conservation order have been successful in increasing harvest of light geese in the United States. Although some methods appear to be utilized more by hunters than others, we believe that no changes are needed to the conservation order's authorized methods of take. However, we believe that we no longer need to require States and tribes to collect detailed information on methods of take used to harvest light geese. Public comments from Flyway Councils received during our last renewal of the information collection requirements (see 76 FR 66952; October 28, 2011) indicated that Councils wanted a discontinuation of collection of information on methods of take as well. Therefore, we propose to revise 50 CFR 21.60(f)(8) to require that States and tribes to keep annual records of only the following activities carried out under the authority of the light goose conservation order:

(i) The number of persons participating in the conservation order;

(ii) The number of days people participated in the conservation order;

(iii) The number of light geese shot and retrieved during the conservation order;

(vii) The number of light geese shot but not retrieved.

This level of information collection would continue to allow us to monitor the efficacy of our efforts to increase the harvest of light goose populations that have been deemed overabundant. During our last information collection renewal (see 76 FR 66952; October 28, 2011), the Flyway Councils also commented that the burden of collection of such information should be transferred to the Service from the States. While we agree that having the Service collect such information would provide uniformity in survey sampling, budgetary constraints currently prevent us from initiating new harvest survey efforts for light geese.

Required Determinations

Regulatory Planning and Review—Executive Order 12866 and 13563

Executive Order 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (5 U.S.C. 601 et seq.)

Under the Regulatory Flexibility Act (5 U.S.C. 601 et seq., as amended by the Small Business Regulatory Enforcement Fairness Act (SBREFA) of 1996 (Pub. L. 104-121)), whenever an agency is required to publish a notice of rulemaking for any proposed or final rule, it must prepare and make available for public comment a regulatory flexibility analysis that describes the effect of the rule on small businesses, small organizations, and small government jurisdictions. However, no regulatory flexibility analysis is required if the head of an agency certifies the rule would not have a significant economic impact on a substantial number of small entities.

SBREFA amended the Regulatory Flexibility Act to require Federal agencies to provide the statement of the factual basis for certifying that a rule would not have a significant economic impact on a substantial number of small entities. This proposed regulation change would not have a significant economic impact on a substantial number of small entities, so a regulatory flexibility analysis is not required.

This proposed rule would reduce the information collection requirements for participants in the light goose conservation order and reduce the burden on State and tribal wildlife agencies that are required to submit annual light goose harvest reports to the Service. It would have no impact on economic activities already associated with the light goose conservation order itself, and therefore would not have an economic effect (benefit) on any small entities.

This is not a major rule under the SBREFA (5 U.S.C. 804 (2)). It would not have a significant impact on a substantial number of small entities.

a. This rule would not have an annual effect on the economy of $100 million or more.

b. This rule would not cause a major increase in costs or prices for consumers, individual industries, Federal, State, Tribal, or local government agencies, or geographic regions.

c. This rule would not have significant adverse effects on competition, employment, investment, productivity, innovation, or the ability of U.S.-based enterprises to compete with foreign-based enterprises.

Unfunded Mandates Reform Act

In accordance with the Unfunded Mandates Reform Act (2 U.S.C. 1501 et seq.), we have determined the following:

a. This rule would not affect small governments. A small government agency plan is not required.

b. This rule would not produce a Federal mandate. It is not a significant regulatory action.

Takings

This proposed rule does not contain a provision for taking of private property. In accordance with Executive Order 12630, a takings implication assessment is not required.

Federalism

This proposed rule does not have sufficient Federalism effects to warrant preparation of a federalism impact summary statement under Executive Order 13132. It would not interfere with any State's ability to manage itself or its funds. No significant economic impacts are expected to result from the proposed regulations change.

Civil Justice Reform

In accordance with Executive Order 12988, the Office of the Solicitor has determined that the rule does not unduly burden the judicial system and meets the requirements of sections 3(a) and 3(b)(2) of the Order.

Paperwork Reduction Act of 1995

The Office of Management and Budget has approved the current information collection requirements in 50 CFR Part 21 and assigned OMB Control Number 1018-0103, which expires January 31, 2015. This proposal revises the information collection requirements, and OMB approval is required under the Paperwork Reduction Act of 1995 (44 U.S.C. 3501 et seq.). We may not conduct or sponsor and a person is not required to respond to a collection of information unless it displays a currently valid OMB control number.

OMB Control Number: 1018-0103.

Title: Conservation Order for Light Geese, 50 CFR 21.60.

Service Form Number(s): None.

Type of Request: Revision of a currently approved collection.

Description of Respondents: State and tribal governments; individuals who participate in the conservation order.

Respondent's Obligation: Required to obtain or retain a benefit.

Frequency of Collection: Annually.

Activity/requirement | Annual No. of respondents | Total annual responses | Completion time per response | Total annual burden hours
States—collect information, maintain records, prepare annual report | 39 | 39 | 45 hours | 1,755
Participants—provide information to States | 21,538 | 21,538 | 8 minutes | 2,872
Total | 21,577 | 21,577 |  | 4,627

Estimated Annual Nonhour Burden Cost: $78,000, primarily for State and tribal overhead costs (materials, printing, postage, etc.)

We expect a maximum of 39 States and tribes to participate under the authority of the conservation order each year it is available. States and tribes must keep records of activities carried out under the authority of the conservation order. We believe that this recordkeeping requirement is necessary to ensure that those individuals carrying out control activities are authorized to do so. The States and tribes must submit an annual report summarizing the activities conducted under the conservation order. Reported information helps us to assess the effectiveness of light geese population control methods and strategies, and assess whether or not additional population control methods are needed. However, we believe that the number of elements in the information collection requirement can be reduced while maintaining a core of elements that allow us to monitor the number of participants in the conservation order and resulting harvest of birds. We propose that 50 CFR 21.60(f)(8) be revised to require that information be collected only on the number of:

• Persons participating in the conservation order;

• Days people participated in the conservation order;

• Light geese shot and retrieved during the conservation order; and

• Light geese shot but not retrieved.

Each State and tribe determines how they collect data from participants. Though there is no common form or method, the States and tribes have shared their forms and there is commonality. Some States require participants to obtain a permit to participate in the conservation order, others do not. Post-harvest survey questions and questionnaire delivery methods differ among States and tribes. States measure harvest and hunter activity through the use of mail questionnaires, phone surveys, hunter diaries, online data entry, and so forth. Differences also exist within similar survey types, such as the proportion of participants surveyed and the type and number of followup contacts.

As part of our continuing efforts to reduce paperwork and respondent burdens, we invite the public and other Federal agencies to comment on any aspect of the reporting burden associated with this proposed information collection. We specifically invite comments concerning:

• Whether or not the collection of information is necessary, including whether or not the information will have practical utility;

• The accuracy of our estimate of the burden for this collection of information;

• Ways to enhance the quality, utility, and clarity of the information to be collected; and

• Ways to minimize the burden of the collection of information on respondents.

Send comments specific to the information collection aspects of this proposed rule to the Desk Officer for the Department of the Interior at OMB-OIRA at (202) 395-5806 (fax) or OIRA_Submission@omb.eop.gov (email). Please provide a copy of your comments to the Service Information Collection Clearance Officer, U.S. Fish and Wildlife Service, MS 2042-PDM, 4401 N. Fairfax Drive, Arlington, VA 22203 (mail) or hope_grey@fws.gov (email). Please include “1018-0103” in the subject line of your comments. See the DATES and ADDRESSES sections for specific instructions.

Public Comments

The Department of the Interior's policy is, whenever practicable, to afford the public an opportunity to participate in the rulemaking process. Accordingly, we invite interested persons to submit written comments, suggestions, or recommendations regarding the proposed regulations. Before promulgation of final regulations for managing harvest of light goose populations, we will take into consideration all comments we receive. Such comments, and any additional information we receive, may lead to final regulations that differ from these proposals.

You may submit your comments and materials concerning this proposed rule by one of the methods listed in the ADDRESSES section. We will not accept comments sent by email or fax or to an address not listed in the ADDRESSES section. Finally, we will not consider hand-delivered comments that we do not receive, or mailed comments that are not postmarked, by the date specified in the DATES section.

We will post all comments in their entirety—including your personal identifying information—on http://www.regulations.gov. Before including your address, phone number, email address, or other personal identifying information in your comment, you should be aware that your entire comment—including your personal identifying information—may be made publicly available at any time. While you can ask us in your comment to withhold your personal identifying information from public review, we cannot guarantee that we will be able to do so.

Comments and materials we receive, as well as supporting documentation we used in preparing this proposed rule, will be available for public inspection on http://www.regulations.gov, or by appointment, during normal business hours, at the U.S. Fish and Wildlife Service, Division of Migratory Bird Management, Room 4107, 4501 North Fairfax Drive, Arlington, VA 22203.

For each series of proposed rulemakings, we will establish specific comment periods. We will consider, but possibly may not respond in detail to, each comment. As in the past, we will summarize all comments we receive during the comment period and respond to them after the closing date in any final rule.

National Environmental Policy Act

In compliance with the requirements of section 102(2)(C) of the National Environmental Policy Act of 1969 (NEPA; 42 U.S.C. 4321 et seq.), and the Council on Environmental Quality's regulations for implementing NEPA (40 CFR 1500-1508), the Environmental Protection Agency (EPA) published the availability of a Final EIS on light goose management on July 13, 2007 (72 FR 38577), and we published the same on July 18, 2007 (72 FR 39439), followed by a 30-day public review period. The EPA reviewed the Final EIS and stated that they did not identify any environmental concerns with our preferred alternative, and that the document provided adequate documentation of the potential environmental impacts. The EPA assigned a rating of Lack of Objection to the Final EIS. The Final EIS is available to the public at the location indicated under the ADDRESSES caption.

Endangered Species Act

Section 7(a)(2) of the Endangered Species Act (ESA), as amended (16 U.S.C. 1531-1543; 87 Stat. 884) provides that “Each Federal agency shall, in consultation with and with the assistance of the Secretary, insure that any action authorized, funded, or carried out . . . is not likely to jeopardize the continued existence of any endangered species or threatened species or result in the destruction or adverse modification of [critical] habitat . . .” We previously completed section 7 consultation under the ESA for the rule that authorized the light goose regulations (73 FR 65926). This proposed rule would only affect information collection and reporting requirements, and we have determined that a section 7 consultation is not necessary.

Energy Effects—Executive Order 13211

Executive Order 13211 requires agencies to prepare Statements of Energy Effects when undertaking certain actions. This rule is not a significant regulatory action under E.O. 13211, and would not adversely affect energy supplies, distribution, or use. This action is not a significant energy action, so no Statement of Energy Effects is required.

Government-to-Government Relationship With Tribes

In accordance with the President's memorandum of April 29, 1994, “Government-to-Government Relations with Native American Tribal Governments” (59 FR 22951), E.O. 13175, and 512 DM 2, we have determined that this rule has very little effect on Federally recognized Indian tribes. This proposal would reduce the information collection and reporting requirements associated with the light goose conservation order, but we expect this reduction would have very little effect on tribes due to low participation rates.

List of Subjects in 50 CFR Part 21

Exports, Hunting, Imports, Reporting and recordkeeping requirements, Transportation, Wildlife.

Proposed Regulation Promulgation

For the reasons stated in the preamble, we hereby propose to amend part 21, of subchapter B, chapter I, title 50 of the Code of Federal Regulations, as set forth below:

PART 21—[AMENDED]

1. The authority citation for part 21 continues to read as follows:

Authority: 16 U.S.C. 703-712.

2. Amend § 21.60 by:

a. Revising paragraphs (f)(8)(i) through (f)(8)(iv) to read as follows; and

b. Removing paragraphs (f)(8)(v) through (f)(8)(x).

§ 21.60 Conservation order for light geese.

* * * * *

(f) * * *

(8) States and tribes must keep annual records of activities carried out under the authority of the conservation order. Specifically, information must be collected on:

(i) The number of persons participating in the conservation order;

(ii) The number of days people participated in the conservation order;

(iii) The number of light geese shot and retrieved during the conservation order; and

(iv) The number of light geese shot but not retrieved.

* * * * *

Dated: November 22, 2013.
Michael Bean,
Acting Principal Deputy Assistant Secretary for Fish and Wildlife and Parks.

[FR Doc. 2014-03446 Filed 2-14-14; 8:45 am]

BILLING CODE 4310-55-P